DEPARTMENT OF TRANSPORTATION

Office of the Secretary

Agency Information Collection: Activity for OMB Review: Advisory Committee Candidate Biographical Information Request Form

AGENCY: Office of the Secretary, DOT.

Docket: DOT-OST-2009-0054.

ACTION: Notice and request for comment.

SUMMARY: In compliance with the Paperwork Reduction Act of 1995, Public Law 104-13 (44 U.S.C. 3501 et seq.), this notice announces that the Information Collection Request, abstracted below, is being forwarded to the Office of Management and Budget for an extension without change of currently approved Advisory Committee Candidate Biographical Information Request Form. A Federal Register Notice with a 60-day comment period was published on November 18, 2008 (FR Vol. 73, No. 223, page 68491-68491). The agency did not receive any comments to its previous notice.

DATES: Written comments should be submitted by April 10, 2009.

FOR FURTHER INFORMATION CONTACT: Lisa L. Hough, Committee Management Officer, Executive Secretariat, U.S. Department of Transportation, 1200 New Jersey Avenue, SE., Washington, DC 20590 or telephone: (202) 366-4277.

Comments: Comments should be sent to OMB: Attention DOT/OST Desk Officer, Office of Information and Regulatory Affairs, Office of Management and Budget, Docket Library, Room 10102, 725 17th Street, NW., Washington, DC 20503, or oira_submission@omb.eop.gov and should identify the associated OMB Approval Number 2105-0009 and Docket DOT-OST-2009-0054.

SUPPLEMENTARY INFORMATION: OMB Approval No.: 2105-0009.

Title: Advisory Committee Candidate Biographical Information Request Form.

Form No.: DOT F1120.1.

Type of Review: Extension.

Respondents: Individuals who have contacted DOT to indicate interest in appointment to and advisory committee and individuals who have been recommended for membership on an advisory committee. Only one collection is expected per individual.

Number of Respondents: 100 Annually.

Total Annual Burden: 25 hours.

Needs and Uses: Information is gathered from individuals interested in appointment to an advisory committee and individuals who have been recommended for membership on an advisory committee to ensure fair and balanced membership.

Issued in Washington, DC, on March 5, 2009.
Patricia Lawton,
Departmental PRA Clearance Officer, Office of the Chief Information Officer.

[FR Doc. E9-5162 Filed 3-10-09; 8:45 am]

BILLING CODE 4910-9X-P